DEPARTMENT OF ENERGY

[FE Docket No. 00-02-NG , Et Al.]

Office of Fossil Energy; Petrocom Energy Group, LTD.; Orders Granting, Amending and Transferring Authorizations To Import and Export Natural Gas

AGENCY: Office of Fossil Energy, DOE.

ACTION: Notice of orders.

SUMMARY: The Office of Fossil Energy (FE) of the Department of Energy gives notice that it has issued Orders granting, amending and transferring natural gas import and export authorizations. These Orders are summarized in the attached appendix and may be found on the FE web site at http://www.fe.doe.gov., or on the electronic bulletin board at (202) 586-7853. They are also available for inspection and copying in the Office of Natural Gas & Petroleum Import & Export Activities, Docket Room 3E-033, Forrestal Building, 1000 Independence Avenue, SW, Washington, DC 20585, (202) 586-9478. The Docket Room is open between the hours of 8 a.m. and 4:30 p.m., Monday through Friday, except Federal holidays.

Issued in Washington, D.C., on March 10, 2000.
John W. Glynn,
Manager, Natural Gas Regulation, Office of Natural Gas & Petroleum, Import & Export Activities, Office of Fossil Energy.

Appendix_Orders Granting, Amending and Transferring Import/Export Authorizations

Order No. | Date issued | Importer/Exporter FE Docket No. | Import volume | Export volume | Comments
1566 | 02-01-00 | Petrocom Energy Group, LTD. 00-02-NG | 2 Bcf 1 Bcf | 1 Bcf 1 Bcf | Import and export from and to Canada and Mexico over a two-year term beginning on the date of first delivery of either the import or export.
1567 | 02-01-00 | Calpine East Fuels LLC 00-06-NG | 40 Bcf |  | Import and export a combined total from and to Canada beginning on July 1, 2000, and extending through June 30, 2002.
1568 | 02-04-00 | Suprex Energy Corporation 00-05-NG | 15 Bcf |  | Import from Canada beginning on March 1, 2000, and extending through February 28, 2002.
1195-A | 02-07-00 | Bear Paw Energy, L.L.C. (The successor to Interenergy Sheffield Processing Company) 96-54-NG |  |  | Transfer of long-term import authority.
1569 | 02-17-00 | Alliance Pipeline L.P. 00-08-NG | 8.8 Bcf |  | Import from Canada over a two-year term beginning on the date of first delivery.
500-B | 02-24-00 | Project Orange Associates L.P. 88-01-NG |  |  | Amendment to long-term import authority to reflect new suppliers.
1570 | 02-24-00 | Williams Energy Marketing & Trading Company (Formerly Williams Energy Services Company) 00-09-NG | 400 Bcf |  | Import and export a combined total from and to Mexico over a two year term beginning on the date of first delivery after March 31, 2000.
1571 | 02-25-00 | Questar Energy Trading Company 00-11-NG | 50 Bcf | 50 Bcf | Import and export from and to Canada beginning on February 28, 2000, and extending through February 27, 2002.

[FR Doc. 00-6656 Filed 3-16-00; 8:45 am]

BILLING CODE 6450-01-P